DEPARTMENT OF TRANSPORTATION

Federal Highway Administration

[U.S. DOT Docket No. FHWA-2009-0036]

Notice: Letter of Public Notification on the Federal Highway Administration (FHWA) State Reports for American Recovery and Reinvestment Act (ARRA); Information Collection Activity

AGENCY: Federal Highway Administration, DOT.

FHWA is submitting this notification to the Office of Management and Budget (OMB) for emergency processing to meet Paperwork Reduction Act (PRA) requirements.

SUMMARY: The American Recovery and Reinvestment Act of 2009 (ARRA), provides the State Departments of Transportation and Federal Lands Agencies with $27.5 billion for highway infrastructure investment. With these funds also comes an increased level of data reporting with the stated goal of improving transparency and accountability at all levels of government. According to President Obama, “Every American will be able to hold Washington accountable for these decisions by going online to see how and where their tax dollars are being spent.” The Federal Highway Administration (FHWA) in concert with the Office of the Secretary of Transportation (OST) and the other modes within the U.S. Department of Transportation (DOT) will be taking the appropriate steps to ensure that this accountability and transparency is in place for all infrastructure investments.

The reporting requirements of the ARRA are covered in Sections 1201 and 1512. Section 1201(c)(1) stipulates that “notwithstanding any other provision of law each grant recipient shall submit to the covered agency (FHWA) from which they received funding periodic reports on the use of the funds appropriated in this Act for covered programs. Such reports shall be collected and compiled by the covered agency (FHWA) and transmitted to Congress. Covered agencies (FHWA) may develop such reports on behalf of grant recipients (states) to ensure the accuracy and consistency of such reports.”

Section 1512 of the “Jobs Accountability Act” requires “any entity that receives recovery funds directly from the Federal Government (including recovery funds received through grant, loan, or contract) other than an individual,” including States, to provide regular “Recipient Reports.”

FOR FURTHER INFORMATION CONTACT: David Winter, 202-366-0175, Director, Office of Highway Policy Information, HPPI-1, 1200 New Jersey Avenue, SE., Washington, DC 20590.

Authority: The paperwork reduction Act of 1995; 44 U.S.C., Chapter 35, as amended; and 49 CFR 1.48.

Issued on March 19, 2009.
James R. Kabel,
Chief, Management Programs and Analysis Division, HAIM-10.

[FR Doc. E9-6748 Filed 3-25-09; 8:45 am]

BILLING CODE 4910-22-P